DEPARTMENT OF HEALTH AND HUMAN SERVICES

Office of Inspector General; Program Exclusions: March 2001

AGENCY: Office of Inspector General, HHS.

ACTION: Notice of program exclusions.

During the month of March 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
Program-Related Convictions:
BOSSENBERGER, DAVID LAMONT, LAPEER, MI | 04/19/2001
BOWENS, DENNIS M, EAST POINT, GA | 04/19/2001
CADAG, SANTIAGO, LOS ANGELES, CA | 04/19/2001
CHEUNG, HOO JOON, HOLLIDAYSBURG, PA | 04/19/2001
CINO, LOUIS, BELLMORE, NY | 04/19/2001
COLORADO TRANSP SVCS, INC, COLORADO SPRNGS, CO | 04/19/2001
CORONADO, VICTOR JESUS, HUNTINGTON PARK, CA | 04/19/2001
CRANE, DAMION, CIRCLEVILLE, OH | 04/19/2001
CRASKE, WILLIAM J, BEAVER, WV | 04/19/2001
CRAWFORD, RANDY, NASHVILLE, TN | 04/19/2001
DAUGHTRY, ROBERT, GORDON CITY, GA | 04/19/2001
DETTMER, JOHN A, CLEARWATER, FL | 04/19/2001
DIREMSIZYAN, MINAS, EL MONTE, CA | 04/19/2001
DONNELLY, CAROLE A, CINCINNATI, OH | 04/19/2001
FAULKNER, JOHN D, DENVER, CO | 04/19/2001
FAVELA, OSCAR, RIALTO, CA | 04/19/2001
FRICANO, JOSEPH, COCOA, FL | 04/19/2001
GODOY, MARIA VILLATORO, RIVERSIDE, CA | 04/19/2001
GREGORY, TAMMY, FLORENCE, SC | 04/19/2001
HARRIS, ARNELL, MUSKOGEE, OK | 04/19/2001
HILLER, SUDIE TURPIN, WINTER HAVEN, FL | 04/19/2001
HOVSAPYAN, SARKIS, PASADENA, CA | 04/19/2001
HUERTA, EUSEBIO, MIAMI, FL | 04/19/2001
JOHNSON, CHANDRA M, ATLANTA, GA | 04/19/2001
KABINOFF, ALAN M, AMBLER, PA | 04/19/2001
KABIR, MOHAMED, OZONE PARK, NY | 04/19/2001
KAHN, WENDY JAYE YORK, SUNRISE, FL | 04/19/2001
KHMELNITSKY, OLGA, BROOKLYN, NY | 04/19/2001
KITAKUFE, JOHN, UNIONVILLE ONTARIO, IL | 04/19/2001
KOPLIK, JAMES C, CAMP HILL, PA | 04/19/2001
LEE, VINCENT, HUNTSVILLE, TX | 04/19/2001
LUCCI, JERRY, ROSALYN, NY | 04/19/2001
LUCCI, SANDI, ROSALYN, NY | 04/19/2001
MARIN, DAVID, MIAMI, FL | 04/19/2001
MCCLAMMA, HAL S JR, MONTGOMERY, AL | 04/19/2001
MCDONALD, IBTIHAJ, LAWRENCEVILLE, GA | 04/19/2001
MCKINNEY, CAROLYN JOYCE WATSON, BRYAN, TX | 04/19/2001
MCLEMORE, STEVEN S, COLUMBUS, MS | 04/19/2001
MELLOR, DENYCE KAY, POWERS, OR | 04/19/2001
MILLER, CAROL A, BERLIN, MD | 04/19/2001
MKRTCHAIN, ANUSH, SHERMAN OAKS, CA | 04/19/2001
MORENO, JORGE, MIAMI, FL | 04/19/2001
MORGAN, WENDY S, DELMAR, NY | 04/19/2001
MORRIS, JOSEPH W, GRANVILLE, NY | 04/19/2001
NEWSOME, JERRY, EGLIN AFB, FL | 04/19/2001
NEWSOME, MARSHALL, ATLANTA, GA | 04/19/2001
PALMER, THOMAS LAWRENCE, ALPHARETTA, GA | 04/19/2001
REUTER, BARBARA J, LANSDALE, PA | 04/19/2001
RIZA, SIRREE MUHAMMAD, EVANSTON, IL | 04/19/2001
ROBERSON, SARAH M, JOANNA, SC | 04/19/2001
ROE, JACQUELINE SUE, GARBER, OK | 04/19/2001
RUIDIAZ, SORI FERNANDEZ, LOWELL, FL | 04/19/2001
SCOPE MEDICAL SERVICES, INC, PROVIDENCE, RI | 04/19/2001
SIMONYAN, HAKOP, LOMPOC, CA | 04/19/2001
SPARGER, TERRY, FORT WORTH, TX | 04/19/2001
TERRELL, ALETHA BOYCE, SOUTHFIELD, MI | 04/19/2001
TONG, CHANTHA, LONG BEACH, CA | 04/19/2001
TOTHILL, PATRICIA F, SUN RIVER, MT | 04/19/2001
TREFETHEN, GARRY EUGENE, TRINIDAD, CO | 04/19/2001
TRINH, LE CAM, PHILADELPHIA, PA | 04/19/2001
VARAS, CANDIDO, N BABYLON, NY | 04/19/2001
VUE, KER, FRESNO, CA | 04/19/2001
WENDLER, KRISTOPHER K, WASECA, MN | 04/19/2001
WOLFSON, STANLEY, HARTSDALE, NY | 04/19/2001
Felony conviction for health care fraud:
COLEMAN, JAMES W, CHARLESTON, WV | 04/19/2001
GGANAH, ALEX FREEMAN, CRYSTAL, MN | 04/19/2001
LUPINACCI, WILLIAM J, DOTHAN, AL | 04/19/2001
PRATT, CATHY LEIGH, MCKENZIE, TN | 04/19/2001
SAADY, JACK, FREEHOLD, NJ | 04/19/2001
VALENCIA, ANTONIO E, HARRISONBURG, VA | 04/19/2001
Felony control substance conviction:
ALLEVI, JOSEPH THOMAS, OJAI, CA | 04/19/2001
BENNEDY, EDWARD R, ATTICA, NY | 04/19/2001
BOYLES, ANDREA DEE, OAKDALE, CA | 04/19/2001
BRADY, WILLIAM J, COLUMBIA, MD | 04/19/2001
BRANDT, AMY LYNNE, PITTSBURGH, PA | 04/19/2001
BRYANT, BRUCE CLAYTON, LEADVILLE, CO | 04/19/2001
CARDI, VINCENZO, N KINGSTOWN, RI | 04/19/2001
DAVIS, ANTHONY A, BAYTOWN, TX | 04/19/2001
GOORAHOO, PAUL L, S OZONE PARK, NY | 04/19/2001
HARRIS, ELLEN, TALLMADGE, OH | 04/19/2001
HOGSTON, VALERIE ROSE, INDIANAPOLIS, IN | 04/19/2001
KATZ, GARY ALAN, BRIGHTON, MI | 04/19/2001
MENDOZA, RICARDO ANTOINIO, DALLAS, TX | 04/19/2001
NELSON, TRUDY JOYCE, MARYSVILLE, OH | 04/19/2001
PATEL, BHARATKUMAR S, BAXLEY, GA | 04/19/2001
ROACH, JAY ALAN, PALMYRA, UT | 04/19/2001
SING, DONETTA HASEMAN, MONROVIA, IN | 04/19/2001
SUNSHEIN, DAVID MICHAEL, KETTERING, OH | 04/19/2001
ZIKA, JOSEPH JOHN JR, BRONSTON, KY | 04/19/2001
Patient abuse/neglect convictions:
ALFRED, CASSANDRA DIANE, BON WIER, TX | 04/19/2001
ANDREWS, ISADOR R, MILLSBORO, DE | 04/19/2001
DIGGINS, JASON LEE, WELEETKA, OK | 04/19/2001
DODGE, JACQUELINE N, EXCELSIOR SPRINGS, MO | 04/19/2001
ELLISON, CAROLYN, WILMINGTON, DE | 04/19/2001
FRESHOUR, BILLY J, GREENEVILLE, TN | 04/19/2001
FUENTES, MARIA, ROCHESTER, NY | 04/19/2001
GOODE, CHARLES L, WHITEVILLE, TN | 04/19/2001
HAWTHORNE, BARBARA DENISE, WIERGATE, TX | 04/19/2001
HINKLE, BRIDGETTE T, HOLLOW ROCK, TN | 04/19/2001
KLOBAS, APRIL COLLEEN, IONE, CA | 04/19/2001
LEVY, JOEL JEFFREY, OAKLAND, CA | 04/19/2001
MCCRITE, DAPHNE E, DYERSBURG, TN | 04/19/2001
MILLER, JAMES D, OCONOMOWOC, WI | 04/19/2001
MILLER, AISHA SHAVOON, VERBENA, AL | 04/19/2001
MONTANA, MATT REZA, CUPERTINO, CA | 04/19/2001
PEARSON, MICHAEL L, RISCO, MO | 04/19/2001
POTTER, EUEL MARTIN, STRATFORD, OK | 04/19/2001
PRINCE, PATTY JOYCE, BETHANY, OK | 04/19/2001
REED, JONNA JEAN, TULSA, OK | 04/19/2001
ROBERTS, JUDITH A, SPENCER, WV | 04/19/2001
SAXE, MARYANN, SCOTTSVILLE, NY | 04/19/2001
SIEGE, SUSAN CHRISTINE, SHELDON, IA | 04/19/2001
WILSON, TAMALA K, CRUGER, MS | 04/19/2001
License revocation/suspension/surrendered
ALCANTARA, JULIETA, ST AUGUSTINE, FL | 04/19/2001
ALTOMONTE, HOLLY A, VALLEY FORGE, PA | 04/19/2001
ALVIANO, PHILIP JAMES, RIVER RIDGE, LA | 04/19/2001
AZNOE, MARIE CECILE, PIONEER, CA | 04/19/2001
BALAREZO, BENJAMIN, SHERMAN OAKS, CA | 04/19/2001
BALLENTINE, ROBERT REID, ENCINITAS, CA | 04/19/2001
BAWDEN, JOHN LUND, PROVO, UT | 04/19/2001
BEAL, JANICE, BRISTOL, PA | 04/19/2001
BECKER, JAMIE RAE, HAYWARD, CA | 04/19/2001
BOEHM, LISA, PHILADELPHIA, PA | 04/19/2001
BONNETT, SHERRY JEANNE, OKLAHOMA CITY, OK | 04/19/2001
BOOK, DONNA JEENE, IRVINE, CA | 04/19/2001
BOYD, GWENDOLYN MCNEILL, ITHACA, NY | 04/19/2001
BRICKEL, ARTHUR C J, GATES MILLS, OH | 04/19/2001
BRISSARD, SUSAN ANNE, MATHIS, TX | 04/19/2001
CAMPBELL, SUSAN MARIE, STEPHENVILLE, TX | 04/19/2001
CASSADY, JOANNE LYNN, ELK RIVER, MN | 04/19/2001
CASTLESON, TOKSEN REX, SAN DIEGO, CA | 04/19/2001
CHURCH, BARBARA J, NEWLAND, NC | 04/19/2001
CINTRON, EMMA L, PERRYSBURG, OH | 04/19/2001
CIPOLONE, RICHARD ALFRED, LONG BEACH, CA | 04/19/2001
CLAYTON, STACEY HARMON, RICHMOND, VA | 04/19/2001
CLINKSCALES, ANN MARIE, AUSTIN, TX | 04/19/2001
COOKSEY-DEAN, JACQUELINE TERES, CAPITOLA, CA | 04/19/2001
CRAIGEN, CORENEA ANN, LEWISTON, ID | 04/19/2001
CROWLEY, DAVID H, BRAINTREE, MA | 04/19/2001
DELYNE, CHARLES E JR, GLENOLDEN, PA | 04/19/2001
DENNING, GAIL ANN, LOS GATOS, CA | 04/19/2001
DINKANE, EHALID, LOS ANGELES, CA | 04/19/2001
ELLIS, SUZETTE RENEE, LEONARD, TX | 04/19/2001
ELLIS, KATHERINE A, MONTICELLO, IN | 04/19/2001
FELTON, EDITH J, NEW CASTLE, DE | 04/19/2001
FENTON, CHARLES ALFRED, CORINTH, NY | 04/19/2001
FERGUSON, ALONZO, BEDFORD HGT, OH | 04/19/2001
FIOR, DONNA M, KEY WEST, FL | 04/19/2001
FOGLE, ALICE Y, W COLUMBIA, SC | 04/19/2001
FORAN, SUSAN A, HOLYOKE, MA | 04/19/2001
GALLAGHER, BRENDA JO, HAMBURG, NJ | 04/19/2001
GIBSON, MARY ELLEN, RAHWAY, NJ | 04/19/2001
GIFFORD-ALLEN, SIMONE, SILVER SPRING, MD | 04/19/2001
GORDON, NICOLE D, COLORADO SPRINGS, CO | 04/19/2001
GREENBERG, JODI KNIGHT, KINGSTON, PA | 04/19/2001
GRUBB, HENRY J, JOHNSON CITY, TN | 04/19/2001
HARRIS, TIMOTHY DANIEL, CALVIN, OK | 04/19/2001
HAWKINS, KIMBERLY A, TRAVELERS REST, SC | 04/19/2001
HEAD, JONATHAN HAYES, MILFORD, OH | 04/19/2001
HERNANDEZ, TONY RAY, PORTERVILLE, CA | 04/19/2001
HIATT, LORI KAY, ST GEORGE, UT | 04/19/2001
HOLDERREAD, TYLER, HENDERSONVILLE, NC | 04/19/2001
HURD, OTTIS M, AURORA, CO | 04/19/2001
HYLAND, KEVIN CLARKE, PLAINVIEW, NY | 04/19/2001
JACKSON, JANICE FAYE, KNOXVILLE, TN | 04/19/2001
KADUE, RICHARD REGINALD, MINNETONKA, MN | 04/19/2001
KELLY, RALPH P, SONOMA, CA | 04/19/2001
KERSTEN, LAWRENCE K, WHITMORE LAKE, MI | 04/19/2001
LAMIN, ANDREW M, MINNEAPOLIS, MN | 04/19/2001
LANDEFELD, RONALD ALFRED, MARION, OH | 04/19/2001
LAWRENCE, SHANNON NICKOLE, GARY, IN | 04/19/2001
LAZRINE, CATHLEEN, THE WOODLANDS, TX | 04/19/2001
LEE, TIMOTHY ARTHUR, PARMA, OH | 04/19/2001
LENTI, MARY KATHYRN, LAKE WALES, FL | 04/19/2001
LOVDAHL, SHAWNA SUE, BONITA, CA | 04/19/2001
MAIGUE, LLEWELYN M, W ORANGE, NJ | 04/19/2001
MASER, KATHLEEN G DORR, HERNDON, VA | 04/19/2001
MASON, MICHELLE RENEE, GRAND PRAIRIE, TX | 04/19/2001
MAY, ELODIA, JOURDANTON, TX | 04/19/2001
MCDONALD, WOODROW, KALAMAZOO, MI | 04/19/2001
MCDOWELL, WILLIAM L, YOUNGSTONE, OH | 04/19/2001
MCGUIGAN, MARY JO, BERWYN, PA | 04/19/2001
MICHAUD, ROBERT MERRILL, MESA, AZ | 04/19/2001
MILLER, KAREN S, PHOENIXVILLE, PA | 04/19/2001
MOIRANO, SHIRLEY A, RODEO, CA | 04/19/2001
MOLINA, MELISSA ANN, ODESSA, TX | 04/19/2001
MOORE, WAYLON CARL, FONTANA, CA | 04/19/2001
MORIN, SUSAN MARIE, N RICHLAND HILLS, TX | 04/19/2001
MUHS-PEREZ, KATHERINE JERALDIN, SAN ANTONIO, TX | 04/19/2001
MYKYTUIK, PATRICIA, INDIANAPOLIS, IN | 04/19/2001
NELON, SHARON ELAINE, FORT WORTH, TX | 04/19/2001
NESKORIK, MICHAEL STANLEY, SEYMOUR, TX | 04/19/2001
NEWMAN, KELLY M, ANCHORAGE, AK | 04/19/2001
NOVAK, CATHERINE, INDIANAPOLIS, IN | 04/19/2001
OBERG, STANTON GRAHAM JR, PLEASANT HILL, CA | 04/19/2001
ODEWALE, IYABO K, PROVIDENCE, RI | 04/19/2001
OGDEN, VICKI L, PAMPA, TX | 04/19/2001
PARKS, ANGELA BETH, LONGVIEW, TX | 04/19/2001
PATTERSON, JULIE ANNE, JEFFERSON, LA | 04/19/2001
PAYNE, SHAWNA L, ATLANTIC, PA | 04/19/2001
PEARCE, BILLY TODD, CONVERSE, TX | 04/19/2001
PETTYJOHN, EARL JAMES, ANCHORAGE, AK | 04/19/2001
PHILLIPS, JOY LYNN, ANTIOCH, TN | 04/19/2001
PORTER, MICHELLE, MERIDIAN, ID | 04/19/2001
PRICE, DOUGLAS EARL, BONHAM, TX | 04/19/2001
QUINN, JANET M, BOSSIER CITY, LA | 04/19/2001
RANGEL, RICHARD M, GRAND JUNCTION, CO | 04/19/2001
RAYNER, MARK HANSEL, BUHLER, KS | 04/19/2001
RHODES, DIANNE, CHICAGO, IL | 04/19/2001
RICHARD, JOY L, ORANGE, TX | 04/19/2001
RIDDERHEIM, KRISTEN ANN, FORT WAYNE, IN | 04/19/2001
ROBERTS, ANAND KUMAR, COLTON, CA | 04/19/2001
ROSENTHAL, LARRY M, LOS ANGELES, CA | 04/19/2001
SHAW, LYNN LEWIS, HOWARD, PA | 04/19/2001
SHELBY, CAROL, JOLIET, IL | 04/19/2001
SISON, ALBERT DACONO, DUARTE, CA | 04/19/2001
SLOMICK, PHYLLIS USHER, VICTORIA, TX | 04/19/2001
SLUNG, HILTON B, HILTON HEAD, SC | 04/19/2001
SMITH, DAPHNE E, IRMO, SC | 04/19/2001
SMITH, ERIC PETER, CINCINNATI, OH | 04/19/2001
SMITH, WAYNE STEPHEN, SNYDER, TX | 04/19/2001
SMITH, PEGGY C, BAYTOWN, TX | 04/19/2001
SMITHEY, JOHN, OPELOUSAS, LA | 04/19/2001
SPAVLIK, LAURIE M, SOMERDALE, NJ | 04/19/2001
SPRICK, PATRICIA RENEE, HOUSTON, TX | 04/19/2001
SPURLIN, JOANNE, HUMBOLDT, IA | 04/19/2001
STARNES, KIMBERLY DAWN, GRANBURY, TX | 04/19/2001
STEWART, ELIZABETH STANLEY, MINNEAPOLIS, MN | 04/19/2001
STOTTS, JAMES BEECHER, IDALOU, TX | 04/19/2001
SZTYBEL, ELVIRA, OAKHURST, NJ | 04/19/2001
THORNBURG, DEBRA, RUSTON, LA | 04/19/2001
THORNTON, WILLIAM E, BOWLING GREEN, KY | 04/19/2001
TIPTON, KAYE LYNN, TYLER, TX | 04/19/2001
TUCCI, KATHLEEN KERR, APOLLO, PA | 04/19/2001
TUCKER, BRET JON, SALT LAKE CITY, UT | 04/19/2001
VELLA, WENDY ANN, ROCHESTER, NY | 04/19/2001
WADE, PHYLLIS C, MARKHAM, IL | 04/19/2001
WARD, KEVIN P, UNION CITY, NJ | 04/19/2001
WAYNE, GEORGE, OTTUMWA, IA | 04/19/2001
WESTBROOK, KRIS LYN, AUSTIN, TX | 04/19/2001
WHITMER, MICHELE LEE, FARMINGTON, IL | 04/19/2001
WIELGUS, MARY, APPLETON, WI | 04/19/2001
WIGLEY, JENNIFER DEE, MANSFIELD, TX | 04/19/2001
WILLETT, LINDA M, ANAMOSA, IA | 04/19/2001
WILLIAM, SUZANNE GRANDPRE, DALLAS, TX | 04/19/2001
WILLIAMS, MICHELLE R, RED OAK, IA | 04/19/2001
WILSON, ALEXANDRA NICOLE, BENTON, AR | 04/19/2001
WONG, HENRY H, ELKTON, OH | 04/19/2001
WORLE, DEBORAH ANN, HALTOM CITY, TX | 04/19/2001
WRIGHT, FELICIA, CHICAGO, IL | 04/19/2001
YAZDANI, FARSHAD, HAGERSTOWN, MD | 04/19/2001
ZAMOR, MARQUITA C, ELIZABETH, NJ | 04/19/2001
ZUSSMAN, STEVE SCOTT, SKOKIE, IL | 04/19/2001
Federal/State Exclusion/Suspension:
LEO, HAROLD REITH, PALMDALE, CA | 04/19/2001
SIEGEL, JONATHAN B, MANALAPAN, NJ | 04/19/2001
Fraud/Kickbacks:
ANASTASIO, ANDREW S, NEW HAVEN, CT | 11/27/2000
DOPPELT, STEPHEN, ORANGEBURG, NY | 06/22/1998
GERIATRIC PSYCHOLOGICAL SVCS, ALEXANDRIA, VA | 05/24/1999
GRANADOS, THAIS ALEIDA, MIAMI, FL | 01/18/2001
HEASTON, JOHN ROBERT, CORONA, CA | 09/21/2000
HUERTA, EUSEBIO, MIAMI, FL | 11/15/1999
PREMIER DIAGNOSTIC LAB, INC, CORONA, CA | 09/21/2000
UNDERWOOD, COREY JAMES, ANAHEIM, CA | 09/21/2000
WATSON, MARC C, CEDAR GROVE, NJ | 04/01/2001
X-TENDED CARE, INC, MIAMI, FL | 11/15/1999
Owned/Controlled by Convicted/Excluded:
CORONADO MEDICAL CLINIC, INC, HUNTINGTON PARK, CA | 04/19/2001
DUNN MEDICAL, INC, SAVANNAH, TN | 04/19/2001
DUNN MEDICAL, INC, FOREST, MS | 04/19/2001
DUNN MEDICAL, INC, WAYNESBORO, TN | 04/19/2001
DUNN MEDICAL, INC, MCCOMB, MS | 04/19/2001
DUNN MEDICAL, INC, GREENWOOD, MS | 04/19/2001
DUNN MEDICAL, INC, NATCHEZ, MS | 04/19/2001
DUNN MEDICAL, INC, SELMA, AL | 04/19/2001
DUNN MEDICAL, INC, EUFAULA, AL | 04/19/2001
GULF STATES MEDICAL SUPPLY, IN, COLUMBUS, MS | 04/19/2001
HOWARD'S HOME RESPIRATORY, SELMA, AL | 04/19/2001
JC DRUGS, INC, | 04/19/2001
REGO PARK, NY, JUANITA V TAPIA, M D, S C, CHICAGO, IL | 04/19/2001
MARSHALL NEWSOME ENTERPRISE, RIVERDALE, GA | 04/19/2001
RONALD A HARPER, D D S, P A, LITTLE ROCK, AR | 04/19/2001
SANTANA MEDICAL & DIAGNOSTIC, MIAMI, FL | 04/19/2001
SELMA ANCILLARY SERVICES EUFAULA, AL | 04/19/2001
SELMA ANCILLARY SERVICES, SELMA, AL | 04/19/2001
SELMA ANCILLARY SERVICES, WRIGHTSVILLE, GA | 04/19/2001
ST LAZARO MEDICAL CENTER CORP, MIAMI, FL | 04/19/2001
TWIN STATES MEDICAL SUPPLY, IN, COLUMBUS, MS | 04/19/2001
Default on Heal Loan:
BAKER, GALE THOMPSON, OLYMPIA FIELDS, IL | 04/19/2001
COBBS, CHARISSE M, HOUSTON, TX | 04/19/2001
CROSBY, ELAINE P, BROOKLYN, NY | 04/19/2001
DENNIS, WILLIAM J, BOISE, ID | 04/19/2001
EISENBERG, CHARLES D, MEREDITH, NH | 04/19/2001
FERRELL, CLIFFORD CHARLES, FT WORTH, TX | 04/19/2001
FINKELSTEIN, DAVID SAML, LAFAYETTE, LA | 04/19/2001
FOSTER, MICHAEL L, KANSAS CITY, MO | 04/19/2001
HARBISON, HARRY A, HUNTINGTON BCH, CA | 04/19/2001
HARRISON, GEOFFREY E, SAVANNAH, GA | 04/19/2001
KONIGSBERG, PAUL E, DANBURY, CT | 04/19/2001
LAUGHLIN, HAROLD JASON JR, EDMOND, OK | 04/19/2001
LIPPIELLO, JENNIE A, NEWFOUNDLAND, NJ | 04/19/2001
LONG, TIMOTHY J, PHILADELPHIA, PA | 04/19/2001
MITCHELL, AIDAN JAMES, NEW YORK, NY | 04/19/2001
NEWMAN, MICHAEL J, S AMBOY, NJ | 04/19/2001
NGUYEN, TRINH MY, PORTLAND, OR | 04/19/2001
ROTHMAN, JERRY K, DULUTH, MN | 03/14/2001
SCAFIDI, SCOTT J, N MYRTLE BEACH, SC | 04/19/2001
SMITH, GEORGE EDMOND, PHILADELPHIA, PA | 04/19/2001
TAYLOR, LISA M, NEW LONDON, CT | 04/19/2001
Owners of Excluded Entities:
KLINE, MATTHEW M, MECHANICSBURG, PA | 05/24/1999
O'SHAUGHNESSY, TIMOTHY J, BETHESDA, MD | 05/24/1999

Dated: April 3, 2001.
Maureen Byer,
Acting Director, Health Care Administrative Sanctions, Office of Inspector General.

[FR Doc. 01-9091 Filed 4-11-01; 8:45 am]

BILLING CODE 4150-04-P